DEPARTMENT OF TRANSPORTATION

National Highway Traffic Safety Administration

49 CFR Part 575

[Docket No. NHTSA-03-15366]

Consumer Information Regulations; Uniform Tire Quality Grading Standards; Correction

AGENCY: National Highway Traffic Safety Administration, DOT.

ACTION: Correcting amendment.

SUMMARY: On November 15, 1991, the National Highway Traffic Safety Administration (NHTSA) published a final rule amending the treadwear testing procedures of the Uniform Tire Quality Grading Standards (UTQGS) to permit the use of front-wheel drive passenger cars, as well as light trucks, and MPVs. Previously, UTQGS specified testing of tires using only rear-wheel drive passenger cars. The effective date of the amendment was December 16, 1991. However, this new language was later inadvertently deleted in an unrelated amendment.

This document corrects NHTSA's inadvertent deletion of that regulatory language.

DATES: These amendments to the final rule are effective July 14, 2003.

FOR FURTHER INFORMATION CONTACT: Mr. George Feygin, Office of Chief Counsel (Telephone: (202) 366-2992) (Fax: (202) 366-3820), 400 Seventh Street, SW., Washington, DC 20590.

SUPPLEMENTARY INFORMATION: The Uniform Tire Quality Grading Standards (UTQGS) sets forth procedures for treadwear testing in 49 CFR 575.104(e). The purpose of the treadwear grades is to aid consumers in the selection of new tires by informing them of the relative amount of expected tread life for each tire offered for sale. This allows the tire purchaser to compare passenger car tires based on tread life.

On November 15, 1991, the agency amended section 575.104(e)(1)(iv) of the treadwear grading procedures to permit treadwear convoys to consist of front-wheel drive passenger cars and light trucks, vans and multipurpose passenger vehicles (MPVs) (or any combination thereof) (56 FR 57988). Previously, the regulations had specified that only rear-wheel drive passenger cars could be used in the testing to determine treadwear grades.

In drafting the November 15, 1991 amendment, NHTSA inadvertently overlooked the fact that a June 11, 1991 final rule; response to a petition for reconsideration amended the same section of the regulation with a later effective date of September 1, 1993. As a result, the new regulatory language was later inadvertently deleted from the CFR.

NHTSA is publishing this correcting amendment to reinstate regulation language allowing for use of front-wheel drive vehicles, light trucks, and MPVs in treadwear convoys that was inadvertently deleted.

This amendment to the final rule is effective 30 days after the date of publication in the Federal Register. Remedying this error on the part of the agency will not impose any additional substantive requirements or burdens on manufacturers. Therefore, NHTSA finds for good cause that any notice of proposed rulemaking and opportunity for comment on these amendments are not necessary.

List of Subjects in 49 CFR Part 575

Consumer protection, Labeling, Motor vehicle safety, Motor vehicles, Rubber and rubber products, Tires.

PART 575—CONSUMER INFORMATION REGULATIONS

Accordingly, 49 CFR Part 575 is corrected by making the following correcting amendment:

1. The authority citation for Part 575 of Title 49 continues to read as follows:

Authority: 49 U.S.C. 322, 30111, 30115, 30117, and 30166; delegation of authority at 49 CFR 1.50.

2. Section 575.104 is corrected by revising paragraph (e)(1)(iv) to read as follows:

§ 575.104 Standard No. 104 Uniform tire quality grading standards.

* * * * *

(e) Treadwear grading conditions and procedures—(1) Conditions.

* * * * *

(iv) A test convoy consists of two or four passenger cars, light trucks, or MPVs, each with a GVWR of 10,000 pounds or less.

* * * * *

Issued: June 5, 2003.
Stephen R. Kratzke,
Associate Administrator for Rulemaking.

[FR Doc. 03-14693 Filed 6-11-03; 8:45 am]

BILLING CODE 4910-59-P